DEPARTMENT OF LABOR

Employment and Training Administration

[NAFTA-5471]

SYST-A-MATIC Tool & Design, Inc., Meadville, PA; Notice of Negative Determination Regarding Application for Reconsideration

By application dated January 10, 2002, the company requested administrative reconsideration of the Department's negative determination of the Department's negative determination regarding eligibility to apply for North American Free Trade Agreement-Transitional Adjustment Assistance (NAFTA-TAA), applicable to workers and former workers of the subject firm. The denial notice was signed on December 26, 2001, and was published in the Federal Register on January 11, 2002 (67 FR 1513).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The denial of NAFTA-TAA for workers engaged in activities related to the production of connector holders at SYST-A-MATIC Tool & Design, Meadville, Pennsylvania, was based on the finding that criteria (3) and (4) of the group eligibility requirements of paragraph (a)(1) of Section 250 of the Trade Act, as amended, were not met. There were no company imports of connector holders from Mexico or Canada, nor did SYST-A-MATIC Tool & Design shift production from Meadville, Pennsylvania to Mexico or Canada. Major customers did not import from Canada or Mexico during the relevant period.

The petitioner alleges that a customer of the subject firm that produced automotive wire harnesses shifted their production to Mexico. As a result of the shift, the customer is now purchasing their connector holders from a company is now purchasing their connector holders from a company located in El Paso, Texas, rather than purchasing the connector holders from the subject firm. The connector holder is a component part that is incorporated into the wire harness.

The loss of a customer to another domestic producer, a shift in production by the customer to Mexico and exports of connector holders to Mexico by the customer's new supplier do not meet the eligibility requirements of the group eligibility requirements of paragraph (a)(1) of Section 250 of the Trade Act, as amended.

Conclusion

After review of the application and investigative findings, I conclude that there has been no error or misinterpretation of the law or of the facts which would justify reconsideration of the Department of Labor's prior decision. Accordingly, the application is denied.

Signed at Washington, DC, this 4th day of April, 2002.
Edward A. Tomchick,
Director, Division of Trade Adjustment Assistance.

[FR Doc. 02-10056 Filed 4-23-02; 8:45 am]

BILLING CODE 4510-30-M